DEPARTMENT OF EDUCATION

[Docket ID ED-2022-FSA-0152]

Privacy Act of 1974; Matching Program

AGENCY: Federal Student Aid, Department of Education.

ACTION: Notice of a New Matching Program.

SUMMARY: This provides notice of the establishment of the matching program between the U.S. Department of Education (Department) and the Department of Defense (DoD), which sets forth the terms, safeguards, and procedures under which the DoD will disclose data to the Department on service members deployed to areas that qualify for imminent danger pay (IDP) or hostile fire pay (HFP) as described in Defense Manpower Data Center Base (DMDC 01) System of Records Notice, routine use 15.b. This matching program will enable the Department to provide no-interest accrual benefits on qualifying loans made under title IV of the Higher Education Act of 1965, as amended (HEA) during the time those service members were deployed to qualifying locations.

DATES: Submit your comments on the proposed matching program on or before May 4, 2023.

The matching program will go into effect 30 days after the publication of this notice, on April 4, 2023, unless comments have been received from interested members of the public requiring modification and republication of the notice. The matching program will continue for 18 months after the effective date and may be renewed for an additional 12 months if, within 3 months prior to the expiration of the 18 months, the respective Data Integrity Boards of the Department and DoD determine that the conditions specified in 5 U.S.C. 552a(o)(2)(D) have been met.

ADDRESSES: Comments must be submitted via the Federal eRulemaking Portal at regulations.gov. Information on using Regulations.gov, including instructions for finding a rule on the site and submitting comments, is available on the site under “FAQ.” If you require an accommodation or cannot otherwise submit your comments via regulations.gov, please contact one of the program contact persons listed under FOR FURTHER INFORMATION CONTACT. The Department will not accept comments submitted by fax or by email or comments submitted after the comment period closes. To ensure that the Department does not receive duplicate copies, please submit your comment only once. Additionally, please include the Docket ID at the top of your comments.

Privacy Note: The Department's policy is to generally make all comments received from members of the public available for public viewing in their entirety on the Federal eRulemaking Portal at www.regulations.gov. Therefore, commenters should be careful to include in their comments only information that they wish to make publicly available.

FOR FURTHER INFORMATION CONTACT: Ron Bennett, Group Director, Program Technical & Business Support Group, Partner and Participation Oversight, Federal Student Aid, U.S. Department of Education, 830 First Street NE, Washington, DC 20202-5320.

If you are deaf, hard of hearing, or have a speech disability and wish to access telecommunications relay services, please dial 7-1-1.

SUPPLEMENTARY INFORMATION: We provide this notice in accordance with Privacy Act of 1974, as amended (Privacy Act) (5 U.S.C. 552a); Office of Management and Budget (OMB) Final Guidance Interpreting the Provisions of Public Law 100-503, the Computer Matching and Privacy Protection Act of 1988, 54 FR 25818 (June 19, 1989); and OMB Circular No. A-108.

Participating Agencies: The U.S. Department of Education and the U.S Department of Defense.

Authority for Conducting the Matching Program: The Department's legal authority to enter into this matching program is section 455(o) of the HEA (20 U.S.C. 1087e(o)), and the Department is authorized to disclose records to DoD by subsection (b)(3) of the Privacy Act (5 U.S.C. 552a(b)(3)).

DoD's legal authority for this matching program is provided by section 455(o) of the HEA (20 U.S.C. 1087e(o)), and DoD is authorized to disclose records to the Department by subsection (b)(3) of the Privacy Act (5 U.S.C. 552a(b)(3)).

Purpose(s): The matching program will assist the Department in its obligation to ensure that borrowers who have loans first disbursed on or after October 1, 2008, made under the William D. Ford Federal Direct Loan Program (20 U.S.C. 1087a et seq.) or a TEACH grant first disbursed on or after October 1, 2008, under the TEACH Grant Program (20 U.S.C. 1070g et seq.), which are collectively referred to herein as “title IV loans”, with outstanding balances receive the no-interest accrual benefit on their eligible title IV loans during the period of time they received IDP or HFP pay. The Department will proactively apply the no-interest accrual benefit to the borrower's eligible title IV loans and notify the borrower that, as a result of the matching program, the borrower does not need to submit further documentation of the borrower's eligibility for the benefit. The Department's notice also will inform the borrower that the Department will accept DoD matched information in lieu of the borrower's submission of DoD payroll documentation, thereby making it easier for the borrower to receive the no-interest accrual benefit.

Categories of Individuals: The matching program involves borrowers who have title IV loans with outstanding balances who are listed on the Servicemembers Civil Relief Act (SCRA) website at https://scra.dmdc.osd.mil/scra/#/home as military servicemembers and who are identified by DoD as being deployed to areas that qualify for IDP or HFP.

Categories of Records: The records to be used in the matching program are described as follows: The Department will disclose to DoD the name (first, middle and last), and Social Security Number (SSN) of borrowers from the National Student Loan Data System (NSLDS) (18-11-06) who the Department identifies as being military servicemembers via the SCRA website. DoD will then disclose to the Department the name (first middle and last), DOB, and SSN of all service members who served in a qualifying IDP or HFP deployment along with their beginning and ending deployment dates and the total number of days deployed for each qualified deployment.

The Department will match the data elements of name, DOB, and SSN received from DoD with the Department's records on borrowers of title IV loans with balances on such loans.

System(s) of Records: The Department will disclose records to DoD from its system of records identified as “National Student Loan Data System (NSLDS)” (18-11-06), which was last published in full in the Federal Register on September 22, 2022 (87 FR 57873) pursuant to routine use (1)(a) and will pass the relevant matched borrower data to the identified loan servicer to apply the no-interest benefit covered by the “Common Services for Borrowers” (CSB) (18-11-16) system, as last published in the Federal Register in full on September 13, 2022 (87 FR 56003). The Department has determined that the NSLDS system and CSB system of records notice contains appropriate routine use disclosure authority and that the use is compatible with the purpose for which the information is collected.

DoD will disclose records back to the Department from its system of records identified as “Defense Manpower Data Center Data Base (DMDC 01), which was last published in full in the Federal Register on February 27, 2019 (84 FR 6383) and subsequently modified on April 16, 2019 (84 FR 15605), pursuant to routine use 15.b. DoD has determined that the DMDC 01 system of records notice contains appropriate routine use disclosure authority and that the use is compatible with the purpose for which the information is collected.

The Department will then match the information provided by DoD with records in the Department's NSLDS system of records.

Accessible Format: On request to the program contact person(s) listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Richard Cordray,
Chief Operating Officer, Federal Student Aid.

[FR Doc. 2023-06937 Filed 4-3-23; 8:45 am]

BILLING CODE 4000-01-P